DEPARTMENT OF STATE

[Public Notice: 8398]

Issuance of a Presidential Permit

July 18, 2013.

AGENCY: Department of State.

ACTION: Notice of Issuance of a Presidential Permit for Vantage Pipeline US LP.

SUMMARY: The Department of State issued a Presidential Permit to Vantage Pipeline US LP (“Vantage”) on July 16, 2013, authorizing Vantage to construct, connect, operate, and maintain pipeline facilities at the border of the United States and Canada in Divide County, North Dakota, for the export of liquefied ethane from the United States to Canada. The Department of State determined that issuance of this permit would serve the national interest. In making this determination and issuing the permit, the Department of State complied with the procedures required under Executive Order 13337, and provided public notice and opportunity for comment.

FOR FURTHER INFORMATION CONTACT: Office of Europe, Western Hemisphere and Africa, Bureau of Energy Resources, U.S. Department of State (ENR/EDP/EWA) 2201 C St. NW., Ste 4843, Washington, DC 20520 Attn: Michael Brennan Tel: 202-647-7553.

SUPPLEMENTARY INFORMATION: Additional information concerning the Vantage pipeline and documents related to the Department of State's review of the application for a Presidential Permit can be found at www.vantagepipeline.state.gov. Following is the text of the issued permit:

PRESIDENTIAL PERMIT

AUTHORIZING VANTAGE PIPELINE US LP TO CONSTRUCT, CONNECT, OPERATE, AND MAINTAIN PIPELINE FACILITIES AT THE INTERNATIONAL BOUNDARY BETWEEN THE UNITED STATES AND CANADA

By virtue of the authority vested in me as Under Secretary of State for Economic Growth, Energy, and the Environment, including those authorities under Executive Order 13337, 69 Fed. Reg. 25299 (2004), and Department of State Delegation of Authority 118-2 of January 26, 2006; having considered the environmental effects of the proposed action consistent with the National Environmental Policy Act of 1969 (83 Stat. 852; 42 U.S.C. § 4321 et seq.) and other statutes relating to environmental concerns; having considered the proposed action consistent with the National Historic Preservation Act (80 Stat. 917, 16 U.S.C. § 470f et seq.); and having requested and received the views of members of the public, various federal and state agencies, and various Indian tribes; I hereby grant permission, subject to the conditions herein set forth, to Vantage Pipeline US LP (hereinafter referred to as the “permittee” or “Vantage”), a limited partnership duly organized under the laws of the State of Delaware, to construct, connect, operate, and maintain pipeline facilities at the border of the United States and Canada in Divide County, North Dakota, for the export of liquid ethane from the United States to Canada.

The term “facilities” as used in this permit means the relevant portion of the pipeline and any land, structures, installations, or equipment appurtenant thereto.

The term “United States facilities” as used in this permit means those parts of the facilities located in the United States. The United States facilities will consist of a single 10-inch diameter pipeline extending from the United States-Canada border near 151st Ave NW., Divide County, North Dakota, up to and including the first mainline shut-off valve in the United States.

This permit is subject to the following conditions:

Article 1. (1) The United States facilities herein described, and all aspects of their operation, shall be subject to all the conditions, provisions, and requirements of this permit and any amendment thereof. This permit may be terminated or amended at any time at the discretion of the Secretary of State or the Secretary's delegate or upon proper application therefor. The permittee shall make no substantial change in the United States facilities, the location of the United States facilities, or in the operation authorized by this permit until such changes have been approved by the Secretary of State or the Secretary's delegate.

(2) The construction, connection, operation and maintenance of the United States facilities shall be in all material respects as described in the permittee's November 15, 2010 application for a Presidential Permit (the “Application”), as amended, the final Environmental Assessment dated May 10, 2013, the Department of State's Finding of No Significant Impact dated May 13, 2013, and any construction, mitigation, and reclamation measures included in the Environmental Protection Plan (EPP) and other mitigation and control plans that are already approved or that are approved in the future by the Department of State or other relevant federal agencies. In the event of any discrepancy among these documents, construction, connection, operation and maintenance of the United States facilities shall be in all material respects as described in the most recent approved document unless otherwise determined by the Department of State.

Article 2. The standards for, and the manner of, the construction, operation, and maintenance of the United States facilities shall be subject to inspection and approval by the representatives of appropriate federal, state and local agencies. The permittee shall allow duly authorized officers and employees of such agencies free and unrestricted access to said facilities in the performance of their official duties.

Article 3. The permittee shall comply with all applicable federal, state, and local laws and regulations regarding the construction, connection, operation, and maintenance of the United States facilities and with all applicable industrial codes. The permittee shall obtain all requisite permits from state and local government entities and relevant federal agencies.

Article 4. Construction, connection, operation, and maintenance of the United States facilities hereunder shall be subject to the limitations, terms, and conditions issued by any competent agency of the United States Government. The permittee shall continue the operations hereby authorized and conduct maintenance in accordance with such limitations, terms, and conditions. Such limitations, terms, and conditions could address, for example, environmental protection and mitigation measures, safety requirements, export regulations, measurement capabilities and procedures, requirements pertaining to the pipeline's capacity, and other pipeline regulations.

Article 5. The permittee shall notify the Commissioner of Customs and Border Protection immediately if it plans to inject foreign merchandise into the United States facilities, or it if plans to seek an amendment to this permit authorizing use of the United States facilities for any imports of petroleum or petroleum products into the United States.

Article 6. Upon the termination, revocation, or surrender of this permit, and unless otherwise agreed by the Secretary of State or the Secretary's delegate, the United States facilities in the immediate vicinity of the international boundary shall be removed by and at the expense of the permittee within such time as the Secretary of State or the Secretary's delegate may specify, and upon failure of the permittee to remove, or to take such other action with respect to, this portion of the United States facilities as ordered, the Secretary of State or the Secretary's delegate may direct that possession of such facilities be taken and that they be removed or other action taken, at the expense of the permittee; and the permittee shall have no claim for damages by reason of such possession, removal, or other action.

Article 7. When, in the opinion of the President of the United States, the national security of the United States demands it, due notice being given by the Secretary of State or the Secretary's delegate, the United States shall have the right to enter upon and take possession of any of the United States facilities or parts thereof; to retain possession, management, or control thereof for such length of time as may appear to the President to be necessary; and thereafter to restore possession and control to the permittee. In the event that the United States shall exercise such right, it shall pay to the permittee just and fair compensation for the use of such United States facilities upon the basis of a reasonable profit in normal conditions, and the cost of restoring said facilities to as good condition as existed at the time of entering and taking over the same, less the reasonable value of any improvements that may have been made by the United States.

Article 8. Any transfer of ownership or control of the United States facilities or any part thereof shall be immediately notified in writing to the United States Department of State, including the submission of information identifying the transferee. This permit shall remain in force subject to all the conditions, permissions and requirements of this permit and any amendments thereto unless subsequently terminated or amended by the Secretary of State or the Secretary's delegate.

Article 9. (1) The permittee is responsible for acquiring such right-of-way grants or easements, permits, and other authorizations as may become necessary and appropriate.

(2) The permittee shall save harmless and indemnify the United States from any claimed or adjudged liability arising out of the construction, connection, operation, or maintenance of the facilities, including but not limited to environmental contamination from the release or threatened release or discharge of hazardous substances and hazardous waste.

(3) The permittee shall maintain the United States facilities and every part thereof in a condition of good repair for their safe operation, and in compliance with prevailing environmental standards and regulations.

Article 10. The permittee shall take all necessary measures to prevent or mitigate adverse environmental impacts or disruption of archeological resources in connection with the construction, operation, and maintenance of the United States facilities. Such measures will include any construction, mitigation, and reclamation measures included in the Environmental Protection Plan (EPP), other mitigation and control plans that are already approved or that are approved in the future by the Department of State or other relevant federal agencies, and any other measures deemed prudent by the permittee.

Article 11. The permittee shall file with the appropriate agencies of the United States Government such statements or reports under oath with respect to the United States facilities, and/or permittee's activities and operations in connection therewith, as are now or may hereafter be required under any laws or regulations of the United States Government or its agencies. The permittee shall file electronic Export Information where required.

Article 12. The permittee shall provide written notice to the Department of State at such time as the construction authorized by this permit is begun, at such time as construction is completed, interrupted, or discontinued, and at other times as may be designated by the Department of State.

Article 13. This permit shall expire five years from the date of issuance in the event that the permittee has not commenced construction of the United States facilities by that deadline.

IN WITNESS WHEREOF, I, Robert D. Hormats, Under Secretary of State for Economic Growth, Energy, and the Environment, have hereunto set my hand this 16th day of July 2013, in the City of Washington, District of Columbia.

Robert D. Hormats,

Under Secretary of State for Economic Growth, Energy, and the Environment

End of permit text.

Dated: July 18, 2013.
Michael Brennan,
Office of Europe, Western Hemisphere and Africa, Bureau of Energy Resources, U.S. Department of State.

[FR Doc. 2013-18321 Filed 7-30-13; 8:45 am]

BILLING CODE 4710-09-P